DEPARTMENT OF HEALTH AND HUMAN SERVICES

National Institutes of Health

National Institute of Child Health And Human Development; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The contract proposals and the discussions could disclose confidential trade secrets or commercial property such a patentable material, and personal information concerning individuals associated with the contract proposals, the disclosure of which would constitute a clearly unwarranted invasion of personal privacy.

Name of Committee: National Institute of Child Health and Human Development Special Emphasis Panel, Contract Proposal Tech Review Panel on Meropenem.

Date: November 29, 2005.

Time: 9 a.m. to 5 p.m.

Agenda: To review and evaluate contract proposals.

Place: The Hotel Lombardy, 209 Pennsylvania Ave., Washington, DC 20006.

Contact Person: Kishena C. Wadhwani, PhD, MpH, Scientific Review Administrator, Division of Scientific Review, 9000 Rockville Pike, MSC 7510, 6100 Building, Room 5B01, Bethesda, MD 20892-7510. (301) 496-1485. wadhwank@mail.nih.gov.

(Catalogue of Federal Domestic Assistance Program Nos. 93.864, Population Research; 93.865, Research for Mothers and Children; 93.929, Center for Medical Rehabilitation Research; 93.209, Contraception and Infertility Loan Repayment Program, National Institutes of Health, HHS)

Dated: November 1, 2005.
Anna Snouffer,
Acting Director, Office of Federal Advisory Committee Policy.

[FR Doc. 05-22486 Filed 11-9-05; 8:45am]

BILLING CODE 4140-01-M